DEPARTMENT OF COMMERCE

Membership of the Departmental Performance Review Board

AGENCY: Department of Commerce.

ACTION: Notice of membership of Departmental Performance Review Board.

SUMMARY: In accordance with 5 U.S.C. 4313(c)(4), Department of Commerce (DOC) announces the appointment of persons to serve as members of the Departmental Performance Review Board (DPRB). The DPRB is responsible for reviewing performance appraisals and ratings of Senior Executive Service (SES) members and serves as the higher level review for executives who report to an appointing authority. Such reviews are conducted only at the executive's request. The appointment of these members to the DPRB will be for periods of 24 months.

EFFECTIVE DATE: The effective date of service appointees to the Departmental Performance Review Board is upon publication of this notice.

FOR FURTHER INFORMATION CONTACT: Joan Jorgenson, Director, Office of Executive Resources, Office of Human Resources Management, 14th and Constitution Avenue, NW., Washington, DC 20230, (202) 482-4233.

SUPPLEMENTARY INFORMATION: The names, position titles, and type of appointment of the members of the DPRB are set forth below by organization:

2001-2003 DPRB MEMBERSHIP

Organization/Member/Type of Appointment

Office of the Secretary

Nuala O'Connor, Deputy Director, Office of Policy and Strategic Planning

Tracy B. McKibbon, Director, Executive Secretariat

Office of the Assistant Secretary for Administration

Barbara A. Retzlaff, Director, Office of Budget

General Counsel

Barbara S. Fredericks, Assistant General Counsel for Administration

Margaret A. Wilson, Deputy General Counsel

Economics and Statistics Administration

James L. Price, Deputy Under Secretary for Economic Affairs

James K. White, Associate Under Secretary for Management

William G. Barron Jr., Deputy Director, Bureau of the Census

Marvin D. Raines, Associate Director for Field Operations, Bureau of the Census

J. Steven Landefeld, Director, Bureau of Economic Analysis

National Telecommunications and Information Administration

Bernadette McGuire-Rivera, Associate Administrator for Telecommunications and Information Applications

International Trade Administration

Jonathan C. Menes, Director, Office of Trade and Economic Analysis, Trade Development

Susan H. Kuhbach, Senior Director, Import Administration

Stephen P. Jacobs, Deputy Assistant Secretary for Agreements Compliance, Market Access and Compliance

Linda Moye-Cheatham, Chief Financial Officer and Director of Administration

Nealton J. Burnham, Deputy Assistant Secretary for Export Promotion Services

Economic Development Administration

David M. Bearden, Deputy Assistant Secretary

National Oceanic and Atmospheric Administration

Rear Admiral Evelyn J. Fields, Director, Office of Marine and Aviation Operations; Director, NOAA Commissioned Corps

John E. Jones Jr., Deputy Assistant Administrator for Weather Services, National Weather Service

Stewart S. Remer, Deputy Chief Administrative Officer, Office of Finance and Administration

Mary M. Glackin, Deputy Assistant Administrator, National Environmental Satellite, Data and Information Service

Jamison S. Hawkins, Deputy Assistant Administrator for Ocean Services and Coastal Zone Management

Bureau of Export Administration

Eileen M. Albanese, Director, Office of Exporter Services

Steven Goldman, Director, Office of Chemical and Biological Controls and Treaty Compliance

Dexter M. Price, Director, Office of Antiboycott Compliance

Dated: October 31, 2001.
Joan Jorgenson,
Executive Secretary, Departmental Performance Review Board.

[FR Doc. 01-27885 Filed 11-6-01; 8:45 am]

BILLING CODE 3510-BS-M